ENVIRONMENTAL PROTECTION AGENCY

40 CFR Part 52

[EPA-R10-OAR-2018-0062; FRL-10013-67-Region 10]

Air Plan Approval; WA; Interstate Transport Requirements for the 2010 Sulfur Dioxide National Ambient Air Quality Standards; Correction and Reopening of Comment Period

AGENCY: Environmental Protection Agency (EPA).

ACTION: Proposed rule; correction and reopening of comment period.

SUMMARY: On July 27, 2020, the Environmental Protection Agency (EPA) published a proposed rulemaking finding that the Washington State Implementation Plan (SIP) meets specific Clean Air Act (CAA) interstate transport requirements for the 2010 1-hour Sulfur Dioxide (SO2) National Ambient Air Quality Standards (NAAQS). In that publication, we supplied an incorrect docket number for commenters to use when submitting comments. The correct docket number is EPA-R10-OAR-2018-0062 and appears in the heading and the ADDRESSES sections read correctly, below. If commenters have already submitted comments, they need not resubmit them, because they will be routed to the correct docket.

DATES: The comment period for the proposed rule published on July 27, 2020 (85 FR 45146), is reopened. Comments must be received on or before October 22, 2020.

ADDRESSES: Submit your comments, identified by Docket ID No. EPA-R10-OAR-2018-0062, at https://www.regulations.gov. Follow the online instructions for submitting comments. Once submitted, comments cannot be edited or removed from regulations.gov. the EPA may publish any comment received to its public docket. Do not submit electronically any information you consider to be Confidential Business Information (CBI) or other information the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: John Chi, EPA Region 10, Air and Radiation Division, 1200 Sixth Avenue-Suite 155, Seattle, WA 98101, at 206-553-1185, or chi.john@epa.gov.

SUPPLEMENTARY INFORMATION:

Correction

On July 27, 2020 (85 FR 45146), we, the EPA, published a proposed rulemaking finding that the Washington SIP meets CAA interstate transport requirements for the 2010 1-hour SO2 NAAQS. In that publication, we supplied an incorrect docket number for commenters to use when they submit comments. We are publishing this document to clarify that the correct docket number is EPA-R10-OAR-2018-0062. However, if you already submitted a comment, you need not resubmit it, because it will be routed to the correct docket. For details on the proposed rulemaking, please refer to the Federal Register publication at 85 FR 45146, July 27, 2020.

Dated: August 12, 2020.
Christopher Hladick,
Regional Administrator, Region 10.

[FR Doc. 2020-17979 Filed 9-21-20; 8:45 am]

BILLING CODE 6560-50-P